ENVIRONMENTAL PROTECTION AGENCY

[FRL-9675-4]

Notification of a Public Teleconference of the Science Advisory Board; Libby Amphibole Asbestos Review Panel

AGENCY: Environmental Protection Agency (EPA).

ACTION: Notice.

SUMMARY: The Environmental Protection Agency (EPA or Agency) Science Advisory Board (SAB) Staff Office announces a public teleconference of the SAB Libby Amphibole Asbestos Panel to discuss the Panel's revised draft review report of EPA's Toxicological Review of Libby Amphibole Asbestos (August 2011 Draft).

DATES: The public teleconference will take place on July 25, 2012 from 1:00 p.m. to 4:00 p.m. (Eastern Daylight Time).

ADDRESSES: The public teleconference will be conducted by telephone only.

FOR FURTHER INFORMATION CONTACT: Any member of the public wishing further information concerning the public teleconference may contact Dr. Diana Wong, Designated Federal Officer (DFO), SAB Staff Office, by telephone/voice mail at (202) 564-2049 or via email at wong.diana-M@epa.gov. General information concerning the EPA Science Advisory Board can be found at the EPA SAB Web site at http://www.epa.gov/sab.

SUPPLEMENTARY INFORMATION: Background: The SAB was established pursuant to the Environmental Research, Development, and Demonstration Authorization Act (ERDAA) codified at 42 U.S.C. 4365, to provide independent scientific and technical peer review, advice, consultation, and recommendations to the EPA Administrator on the technical basis for EPA actions. As a Federal Advisory Committee, the SAB conducts business in accordance with the Federal Advisory Committee Act (FACA) (5 U.S.C. App. 2) and related regulations. Pursuant to FACA and EPA policy, notice is hereby given that the SAB Libby Amphibole Asbestos Panel will hold a public teleconference to discuss its revised draft review report of EPA's draft Toxicological Review of Libby Amphibole Asbestos (August 2011). The Panel previously held a public meeting on February 6-8, 2012 (Federal Register 76, Number 247, Page 80368), and public teleconferences on May 1 and May 8, 2012 (Federal Register 77, Number 60, Page 18808) to discuss its review comments and draft report, respectively. The SAB will comply with the provisions of FACA and all appropriate SAB Staff Office procedural policies. Background information about this SAB review can be found on the SAB Web site at http://yosemite.epa.gov/sab/sabproduct.nsf/fedrgstr_activites/Libby%20Cancer%20Assessment?OpenDocument.

Availability of the review materials: Agendas and materials in support of the teleconference will be placed on the SAB Web site at http://www.epa.gov/sab in advance of the teleconference. For technical questions and information concerning EPA's Draft Toxicological Review of Libby Amphibole Asbestos (August 2011), please contact Dr. Danielle DeVoney, of EPA's National Center for Environmental Assessment (NCEA), by phone (703) 347-8558, or via email at devoney.danielle@epa.gov; or Dr. Bob Benson, of EPA Region 8, by phone (303) 312-7070, or via email at benson.bob@epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit comments for a federal advisory committee to consider as it develops advice for EPA. Input from the public to the SAB will have the most impact if it consists of comments that provide specific scientific or technical information or analysis for the SAB panel to consider or if it relates to the clarity or accuracy of the technical information.

Oral Statements: In general, individuals or groups requesting an oral presentation at a public teleconference will be limited to three minutes per speaker. Interested parties should contact Dr. Diana Wong, DFO, in writing (preferably via email), at the contact information noted above, by July 18, 2012 to be placed on the list of public speakers for the July 25, 2012 public teleconference. Written Statements: Written statements should be received in the SAB Staff Office by July 18, 2012 so that the information may be made available to the SAB Panel for their consideration. Written statements should be supplied to the DFO in electronic format via email (acceptable file formats: Adobe Acrobat PDF, WordPerfect, MS Word, MS PowerPoint, or Rich Text files in IBM-PC/Windows 98/2000/XP format). It is the SAB Staff Office general policy to post written comments on the web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Procedures for Registration to Listen to the Teleconference: Members of the public who would like to listen to the conference call should contact Dr. Diana Wong, DFO, via email at the contact information noted above by July 23, 2012.

Accessibility: For information on access or services for individuals with disabilities, please contact Dr. Diana Wong at the phone number or email address noted above, preferably at least ten days prior to the meeting, to give EPA as much time as possible to process your request.

Dated: May 16, 2012.
Thomas H. Brennan,
Deputy Director, EPA Science Advisory Board Staff Office.

[FR Doc. 2012-12499 Filed 5-22-12; 8:45 am]

BILLING CODE 6560-50-P